DEPARTMENT OF TRANSPORTATION

Federal Aviation Administration

14 CFR Part 39

[Docket No. 2001-NM-355-AD]

RIN 2120-AA64

Airworthiness Directives; BAE Systems (Operations) Limited (Jetstream) Model 4101 Airplanes

AGENCY: Federal Aviation Administration, DOT.

ACTION: Notice of proposed rulemaking (NPRM).

SUMMARY: This document proposes the adoption of a new airworthiness directive (AD) that is applicable to all BAE Systems (Operations) Limited (Jetstream) Model 4101 airplanes. This proposal would require repetitive inspections for cracking in the casing of the nose landing gear (NLG), and corrective action if necessary. This action is necessary to find and fix cracking of the NLG casing, which could result in failure of the NLG, and consequent reduced controllability of the airplane during takeoff and landing. This action is intended to address the identified unsafe condition.

DATES: Comments must be received by December 18, 2003.

ADDRESSES: Submit comments in triplicate to the Federal Aviation Administration (FAA), Transport Airplane Directorate, ANM-114, Attention: Rules Docket No. 2001-NM-355-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-355-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-355-AD.” The postcard will be date stamped and returned to the commenter.

Availability of NPRMs

Any person may obtain a copy of this NPRM by submitting a request to the FAA, Transport Airplane Directorate, ANM-114, Attention: Rules Docket No. 2001-NM-355-AD, 1601 Lind Avenue, SW., Renton, Washington 98055-4056.

Discussion

The Civil Aviation Authority (CAA), which is the airworthiness authority for the United Kingdom, notified the FAA that an unsafe condition may exist on all BAE Systems (Operations) Limited (Jetstream) Model 4101 airplanes. The CAA advises that cracks have been found in a number of nose landing gear (NLG) casings. This condition, if not corrected, could result in failure of the NLG, and consequent reduced controllability of the airplane during takeoff and landing.

Explanation of Relevant Service Information

BAE Systems (Operations) Limited has issued Alert Service Bulletin J41-A32-079, Revision 2, dated April 28, 2003. That alert service bulletin describes procedures for repetitive detailed and fluorescent dye penetrant inspections for cracking in the casing of the NLG, and corrective actions if necessary. If cracking is found, the corrective actions include repairing the casing (if cracking is within certain limits), or replacing with a new or serviceable NLG casing (if cracking exceeds those limits). Accomplishment of the actions specified in the alert service bulletin is intended to adequately address the identified unsafe condition. The CAA classified this alert service bulletin as mandatory and issued British airworthiness directive 004-10-2001 to ensure the continued airworthiness of these airplanes in the United Kingdom.

BAE Systems (Operations) Limited Alert Service Bulletin J41-A32-079, Revision 2, refers to APPH Ltd. Service Bulletin AIR83586-32-18, Revision 1, dated October 2001, as an additional source of service information for the accomplishment of certain actions therein.

FAA's Conclusions

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in BAE Systems (Operations) Limited Alert Service Bulletin J41-A32-079, Revision 2, described previously, except as discussed below.

Differences Between Proposed Rule and Referenced Alert Service Bulletin

Although BAE Systems (Operations) Limited Alert Service Bulletin J41-A32-079, Revision 2, specifies that operators may contact the manufacturer for approval of a ferry flight to a location where the replacement of the NLG casing may be accomplished, this proposed AD does not contain such a provision. Any ferry flight must be approved by the FAA as specified in 14 CFR part 39 (67 FR 47997, July 22, 2002), which governs the FAA's airworthiness directives system.

Operators should note that, although the Accomplishment Instructions of BAE Systems (Operations) Limited Alert Service Bulletin J41-A32-079, Revision 2, describe procedures for submitting certain reports to the manufacturer, this proposed AD would not require such reporting. The FAA does not need this information from operators.

Cost Impact

The FAA estimates that 57 airplanes of U.S. registry would be affected by this proposed AD, that it would take approximately 1 work hour per airplane to accomplish the proposed actions, at the average labor rate of $65 per work hour. Based on these figures, the cost impact of the proposed AD on U.S. operators is estimated to be $3,705, or $65 per airplane, per inspection cycle.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2001-NM-355-AD.

Applicability: All Model Jetstream 4101 airplanes, certificated in any category.

Compliance: Required as indicated, unless accomplished previously.

To find and fix cracking of the casing of the nose landing gear (NLG), which could result in failure of the NLG, and consequent reduced controllability of the airplane during takeoff and landing, accomplish the following:

Service Bulletin References

(a) The following information pertains to the service bulletin referenced in this AD:

(1) The term “alert service bulletin” as used in this AD, means the Accomplishment Instructions of BAE Systems (Operations) Limited Alert Service Bulletin J41-A32-079, Revision 2, dated April 28, 2003.

(2) The alert service bulletin refers to APPH Ltd. Service Bulletin AIR83586-32-18, Revision 1, dated October 2001, as an additional source of service information for the accomplishment of certain actions in BAE Systems (Operations) Limited Service Bulletin J41-A32-079, Revision 2.

(3) Inspections and corrective actions accomplished before the effective date of this AD per BAE Systems (Operations) Limited Alert Service Bulletin J41-A32-079, Revision 1, dated October 25, 2001, are acceptable for compliance with the corresponding actions required by this AD.

(4) Although the alert service bulletin referenced in this AD specifies to submit certain information to the manufacturer, this AD does not include such a requirement.

Inspections

(b) Within 7 days after the effective date of this AD, do a detailed inspection for cracking of the NLG casing, per the alert service bulletin. Then, at the compliance time specified in paragraph (b)(1) or (b)(2) of this AD, as applicable, do a fluorescent dye penetrant inspection for cracking of the NLG casing, per the alert service bulletin.

(1) If no cracking is found during the detailed inspection, within 30 days after accomplishment of the detailed inspection, do the fluorescent dye penetrant inspection.

(2) If any cracking is found during the detailed inspection, before further flight, do the fluorescent dye penetrant inspection.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(c) If any cracking is found during any inspection per paragraph (b) of this AD, before further flight, do paragraph (c)(1) or (c)(2) of this AD, as applicable, per the alert service bulletin.

(1) If the cracking is within the limits specified in the alert service bulletin, repair the NLG casing.

(2) If the cracking is outside the limits specified in the alert service bulletin, replace the NLG casing with a new or serviceable NLG casing.

Note 2: Although the alert service bulletin specifies that operators may contact the manufacturer for approval of a ferry flight to a location where the replacement of the NLG casing may be accomplished, this AD requires any ferry flight to be approved by the FAA, as specified in 14 CFR part 39.

Repetitive Inspections

(d) Repeat the inspections in paragraph (b) of this AD, and the corrective action in paragraph (c) of this AD, as applicable, at intervals not to exceed 1,200 landings.

Note 3: There is no terminating action available at this time for the repetitive inspections required by paragraph (d) of this AD.

Parts Installation

(e) As of the effective date of this AD, no person may install an NLG casing on any airplane unless it has been inspected per paragraph (b) of this AD and found to be free of any cracking.

Alternative Methods of Compliance

(f) In accordance with 14 CFR 39.19, the Manager, International Branch, ANM-116, Transport Airplane Directorate, FAA, is authorized to approve alternative methods of compliance for this AD.

Note 4: The subject of this AD is addressed in British airworthiness directive 004-10-2001.

Issued in Renton, Washington, on November 12, 2003.
Kalene C. Yanamura,
Acting Manager, Transport Airplane Directorate, Aircraft Certification Service.

[FR Doc. 03-28731 Filed 11-17-03; 8:45 am]

BILLING CODE 4910-13-P